DEPARTMENT OF THE TREASURY

Agency Information Collection Activities; Submission for OMB Review; Comment Request; Multiple Fiscal Service Information Collection Requests

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before July 29, 2020 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Molly Stasko by emailing PRA@treasury.gov, calling (202) 622-8922, or viewing the entire information collection request at www.reginfo.gov.

SUPPLEMENTARY INFORMATION:

Bureau of the Fiscal Service (BFS)

1. Title: Annual Financial Statements of Surety Companies—Schedule F.

OMB Control Number: 1530-0008.

Type of Review: Extension without change of a currently approved collection.

Description: The Schedule F provides information used to determine the amount of unauthorized reinsurance of Treasury approved Admitted Reinsurers. This computation is necessary to ensure the solvency of companies recognized by the Treasury to write Federal surety bonds, and their ability to carry out contractual requirements.

Form: FS Form 6314.

Affected Public: Business or other for-profits.

Estimated Number of Respondents: 337.

Frequency of Response: Annually.

Estimated Total Number of Annual Responses: 337.

Estimated Time per Response: 20 hours 30 minutes.

Estimated Total Annual Burden Hours: 6,909 hours.

2. Title: Authorization Agreement for Preauthorized Payment.

OMB Control Number: 1530-0015.

Type of Review: Extension without change of a currently approved collection.

Description: Preauthorized payment is used by remitters (individuals and corporations) to authorize electronic funds transfers from the bank accounts maintained at financial institutions for government agencies to collect monies.

Form: SF Form 5510.

Affected Public: Business or other for-profit; Individuals or Households; Federal Government.

Estimated Number of Respondents: 100,000.

Frequency of Response: On occasion.

Estimated Total Number of Annual Responses: 100,000.

Estimated Time per Response: 15 minutes.

Estimated Total Annual Burden Hours: 25,000 hours.

Authority: 44 U.S.C. 3501 et seq.

Dated: June 24, 2020.
Spencer W. Clark,
Treasury PRA Clearance Officer.

[FR Doc. 2020-13956 Filed 6-26-20; 8:45 am]

BILLING CODE 4810-AS-P